COMMISSION ON CIVIL RIGHTS

Agenda and Notice of Public Meeting of the New Jersey Advisory Committee

Notice is hereby given, pursuant to the provisions of the rules and regulations of the U.S. Commission on Civil Rights and the Federal Advisory Committee Act, that a day-long briefing meeting before a subcommittee of the Pennsylvania State Advisory Committee of the U.S. Commission on Civil Rights will convene at 9:30 a.m. on Monday, September 8, 2008, at the Monroe County Administrative Center, 1 Quaker Plaza, Room 203, Stroudsburg, Pennsylvania 19360.

The purpose of this meeting is to receive presentations from experts on civil rights matters in Monroe County, PA.

Members of the public are entitled to submit written comments; the comments must be received in the Eastern Regional Office by September 22, 2008. The address is 624 Ninth Street, NW., Washington, DC 20425. Persons wishing to e-mail their comments, or who desire additional information should contact Alfreda Greene, Secretary, 202-376-7533, TTY 202-376-8116 or by e-mail: agreene@usccr.gov.

Hearing impaired persons who will attend the meeting and require the service of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and the Federal Advisory Committee Act.

Dated in Washington, DC, August 12, 2008.
Christopher Byrnes,
Chief, Regional Programs Coordination Unit.

[FR Doc. E8-18979 Filed 8-15-08; 8:45 am]

BILLING CODE 6335-01-P